FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, without revision, the Registration of a Securities Holding Company (FR 2082; OMB No. 7100-0347).

FOR FURTHER INFORMATION CONTACT: Federal Reserve Board Clearance Officer—Nuha Elmaghrabi—Office of the Chief Data Officer, Board of Governors of the Federal Reserve System, Washington, DC 20551 (202) 452-3829. Telecommunications Device for the Deaf (TDD) users may contact (202) 263-4869, Board of Governors of the Federal Reserve System, Washington, DC 20551.

Office of Management and Budget (OMB) Desk Officer—Shagufta Ahmed—Office of Information and Regulatory Affairs, Office of Management and Budget, New Executive Office Building, Room 10235, 725 17th Street NW, Washington, DC 20503 or by fax to (202) 395-6974.

SUPPLEMENTARY INFORMATION: On June 15, 1984, OMB delegated to the Board authority under the Paperwork Reduction Act (PRA) to approve and assign OMB control numbers to collection of information requests and requirements conducted or sponsored by the Board. Board-approved collections of information are incorporated into the official OMB inventory of currently approved collections of information. Copies of the PRA Submission, supporting statements and approved collection of information instrument(s) are placed into OMB's public docket files. The Board may not conduct or sponsor, and the respondent is not required to respond to, an information collection that has been extended, revised, or implemented on or after October 1, 1995, unless it displays a currently valid OMB control number.

Final Approval Under OMB Delegated Authority of the Extension for Three Years, Without Revision, of the Following Information Collection

Report title: Registration of a Securities Holding Company.

Agency form number: FR 2082.

OMB control number: 7100-0347.

Frequency: On occasion.

Respondents: Securities holding companies (SHCs).

Estimated number of respondents: 1.

Estimated average hours per response: 8.

Estimated annual burden hours: 8.

General description of report: Section 241.3(a)(1) of the Board's Regulation OO requires SHCs that elect to register to become supervised SHCs to file the appropriate registration form with the responsible Federal Reserve Bank. The registration form, FR 2082, requests from the registering SHC an organization chart (including all subsidiaries), shareholder reports and financial statements, information regarding the SHC's shareholders, senior officers and directors, information regarding the methods used by the SHC to monitor and control its operations, and information regarding the SHC's foreign bank subsidiaries and the bank regulatory system in which these foreign bank subsidiaries operate. The information collected by the FR 2082 registration form is used by the Federal Reserve System to determine whether the registrant meets the requirements to become a supervised SHC and to complete the registration. This information is not available from another source.

Legal authorization and confidentiality: The FR 2082 registration form implemented by section 241.3(a) of Regulation OO (12 CFR 241.3(a)) is authorized by section 618(b)(2)(A) of the Dodd-Frank Wall Street Reform and Consumer Protection Act (12 U.S.C. 1850a(b)(2)(A)). Section 618(b)(2)(A) requires covered companies that elect to be supervised by the Board “to register by filing with the Board of Governors such information and documents as the [Board], by regulation, may prescribe as necessary.” The obligation to submit the FR 2082 registration form is required for covered companies that elect to register to become supervised SHCs on a one-time basis.

The information provided on the FR 2082 registration form and in connection with the SHC's registration is considered public. However, certain personal and biographical information on individuals, which is required to be submitted as part of the registration, may be treated as confidential under exemption 6 of the Freedom of Information Act (FOIA), which protects from disclosure information that “would constitute a clearly unwarranted invasion of personal privacy” (5 U.S.C. 552(b)(6)). In addition, certain information submitted in connection with the SHC's registration may be exempt from disclosure under exemption 4 of the FOIA, which protects confidential commercial or financial information that is reasonably likely to result in substantial competitive harm if disclosed (5 U.S.C. 552(b)(4)). If an SHC seeks confidential treatment of any information submitted as part of its registration under exemption 4 of the FOIA, the SHC must submit such a request in accordance with section 261.15 of the Board's Rules Regarding Availability of Information (12 CFR 261.15). In addition, information for which confidential treatment is sought under exemption 4 or 6 of the FOIA, must be labelled as confidential, accompanied by a request for confidential treatment submitted in writing concurrently with the filing of the registration (or related submissions), and the confidential treatment request must provide a detailed justification as to why confidential treatment is warranted for each portion of the registration (or submission) for which confidentiality is requested.

Current actions: On January 31, 2019, the Board published a notice in the Federal Register (84 FR 716) requesting public comment for 60 days on the extension, without revision, of the Registration of a Securities Holding Company. The comment period for this notice expired on April 1, 2019. The Board did not receive any comments.

Board of Governors of the Federal Reserve System, April 16, 2019.
Yao-Chin Chao,
Assistant Secretary of the Board.

[FR Doc. 2019-07876 Filed 4-18-19; 8:45 am]

BILLING CODE 6210-01-P